DEPARTMENT OF COMMERCE

National Oceanic and Atmospheric Administration

[RTID 0648-XC050]

NOAA Fisheries Draft Climate Regional Action Plans (2022-2024)

AGENCY: National Marine Fisheries Service (NMFS), National Oceanic and Atmospheric Administration (NOAA), Department of Commerce.

ACTION: Notice, extension of comment period.

SUMMARY: NMFS is extending the comment period for the Notice of Availability of Draft Climate Regional Action Plans. We, NMFS, are soliciting review and comment from the public and all interested parties, and will consider all substantive comments received during the review period before publishing final Climate Regional Action Plans. Comments are invited on: (a) The clarity of the goals and activities in the plans, (b) how to strengthen the proposed Plans and activities; (c) what additional goals and activities need to be addressed. Comments submitted in response to this notice will be provided to the Regional Action Plan Teams for consideration in development of the final plans. To review the draft regional plans, visit: https://www.fisheries.noaa.gov/national/climate/climate-science-strategy-regional-action-plans.

DATES: The original NoA issued on 22 April 2022 (87 FR 24099) provided a comment period ending on 02 June 2022. The comment period is now being extended and will close 29 July 2022. Comments received after this date may not be accepted. Comments received prior to this announcement do not need to be resubmitted as a result of the extension of the comment period.

ADDRESSES: Comments may be submitted on the NOAA Fisheries Draft Climate Regional Action Plans by either of the following methods:

• Electronic Submissions: Submit all electronic public comments via the Federal eRulemaking Portal.

1. Go to www.regulations.gov and enter NOAA-NMFS-2022-0007 in the search box.

2. Click the “Comment” icon

3. Enter or attach your comments.

• Mail: Submit written comments to Roger Griffis, NMFS/Office of Science and Technology, 1315 East-West Highway, Silver Spring, MD 20910. Include on the envelope the following identifier “Draft Climate Regional Action Plans Comments.”

• Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The NOAA Fisheries Draft Climate Regional Action Plans are available online at https://www.fisheries.noaa.gov/national/climate/climate-science-strategy-regional-action-plans or upon request from the NMFS Office of Science and Technology.

FOR FURTHER INFORMATION CONTACT: Roger Griffis, (301)-980-4694, NMFS.RAPcomments@noaa.gov.

SUPPLEMENTARY INFORMATION:

Background

The NOAA Fisheries Climate Science Strategy, released in August of 2015 and available at https://www.fisheries.noaa.gov/topic/climate-change, responded to the growing demand from fisheries and other decision makers for better information about what's changing, what's at risk and how to respond to changing climate and ocean conditions. The Climate Science Strategy identified seven key objectives to produce and deliver the climate-related information to meet these needs and fulfill NMFS mandates in a changing climate. The Climate Science Strategy provided a national framework designed to be customized and implemented in each region through Regional Action Plans.

In 2016 NMFS created the first Regional Action Plans in collaboration with Fishery Management Councils and many other partners to identify the strengths, weaknesses, priorities, and specific actions to implement the Climate Science Strategy in the Northeast, Southeast, Pacific Islands, West Coast and Alaska Regions. While some impacts of changing climate and oceans on living marine resources are shared across regions, each region has a unique combination of climate-related challenges, capabilities, and information requirements needed to implement the Strategy.

The Climate Science Regional Action Plans are cross-agency, coordinated efforts to increase implementation of the Climate Science Strategy in each region, and include goals and actions to help track changing marine ecosystem conditions, assess risks, provide early warnings and longer-term projections, and evaluate management strategies under changing conditions.

Development of the Draft Regional Action Plans

In 2021 NMFS conducted an assessment of progress to implement the Climate Science Strategy during 2016-2020 including efforts under the first Regional Action Plans. This 5 year Progress Report (https://spo.nmfs.noaa.gov/content/tech-memo/noaa-fisheries-climate-science-strategy-five-year-progress-report) provides useful information for development of updated Regional Action Plans for 2022-2024. The draft 2022-2024 Regional Action Plans were developed by regional teams consisting of NMFS personnel from Science Centers and Regional Offices. The updated plans build upon previous efforts and identify proposed actions over the next 3 years (2022-2024) to address key climate-science needs in each region.

The goal of the draft Regional Action Plans is to continue to increase the production, delivery and use of climate-related information needed for fisheries management and protected species conservation in each region. Each draft Regional Action Plan identifies specific actions to implement the seven objectives of the NOAA Fisheries Climate Science Strategy. The actions address key needs in each region based on input from NMFS scientists, resource managers, stakeholders and other sources. The draft Regional Action Plans include actions to provide decision makers with better information on what's changing, what's at risk and how different management strategies may perform under changing climate and ocean conditions.

Some specific actions and products include:

Tracking change: Monitor and assess key indicators of ecosystem conditions to better track and provide early warnings of changing conditions.

Forecasting conditions: Research and modeling to understand the mechanisms of change and provide near and longer term forecasts of conditions.

Assessing risks: Assess the vulnerability of marine resources, fisheries, fishing communities and other sectors that depend on marine resources.

Evaluating best strategies: Identify alternative management approaches and evaluate how they may perform under changing conditions to identify best approaches for stewardship of the Nation's valuable marine resources.

Public Comments Solicited

NMFS is committed to increasing the production, delivery, and use of climate-related information to fulfill its living marine resource stewardship mandates. NMFS works with and depends on many partners to fulfill its science and information needs, including other government agencies, academia, fisheries, and other organizations. As such, NMFS is providing this opportunity for broad public review and comment on the draft Climate Science Regional Action Plans.

Public comments are invited to help clarify and strengthen the draft Regional Action Plans. Comments are invited on: (a) The clarity of the goals and activities in the plans, (b) how to strengthen the proposed Plans and activities; (c) what additional goals or activities need to be addressed. Comments submitted in response to this notice will be provided to the Regional Action Plan Teams for consideration in development of the final Plans.

Authority: 16 U.S.C. 1881c, Fisheries Research Section 404(a) and Executive Order 14008, Section 216(c).

Dated: May 18, 2022.
Evan Howell,
Director, Office of Science and Technology, National Marine Fisheries Service.

[FR Doc. 2022-11048 Filed 5-20-22; 8:45 am]

BILLING CODE 3510-22-P